SECURITIES AND EXCHANGE COMMISSION

[File No. 500-1]

In the Matter of China Energy Savings Technology, Inc.; Order of Suspension of Trading

September 26, 2006.

It appears to the Securities and Exchange Commission that there is a lack of current and accurate information concerning the securities of China Energy Savings Technology, Inc. (“China Energy”), a Nevada corporation headquartered in Hong Kong, which trades in the over-the-counter market under the symbol “CESV”.

Questions have arisen regarding the accuracy and completeness of information contained in China Energy's press releases and public filings with the Commission concerning, among other things: (i) The company's purported ownership and control of its sole asset, Shenzhen Dicken Industrial Development, a manufacturer of energy saving devices located and doing business in the People's Republic of China; and (ii) the existence and/or identity of the company's purported former Chairman and Chief Executive Officer, Mr. Sun Li.

The Commission is of the opinion that the public interest and the protection of investors require a suspension of trading in the securities of the above-listed company.

Therefore, it is ordered, pursuant to Section 12(k) of the Securities Exchange Act of 1934, that trading in the above-listed company is suspended for the period from 9:30 a.m. edt, September 26, 2006, through 11:59 p.m. edt, on October 10, 2006.

By the Commission.
Jill M. Peterson,
Assistant Secretary.

[FR Doc. 06-8365 Filed 9-26-06; 11:44 am]

BILLING CODE 8010-01-P